DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground *Elevation in feet (NGVD) •Elevation in feet (NAVD)
ALABAMA
Cullman County (FEMA Docket No. D-7594)
Mud Creek:
At Interstate 31 | *533
Approximately 800 feet upstream of State Route 91 | *537
Cullman County (Unincorporated Areas), City of Hanceville
Bavar Creek:
Approximately 2,400 feet downstream of County Route 37 | *567
At Section Line Road | *692
Town of Good Hope
Ryan Creek:
Approximately 1,000 feet downstream of County Road 38 | *643
Approximately 0.4 mile upstream of 16th Street Southeast | *713
Cullman County (Unincorporated Areas), City of Cullman
Wolf Creek:
At the confluence with Ryan Creek | *676
Approximately 0.3 mile upstream of Briarwood Drive Southeast | *691
City of Cullman
Cullman County (Unincorporated Areas)
Maps available for inspection at the Cullman County Commission, 500 Second Avenue SW., Room 202, Cullman, Alabama.
City of Cullman
Maps available for inspection at the City of Cullman Building Department, 201 2nd Avenue, Cullman, Alabama.
City of Good Hope
Maps available for inspection at the Good Hope City Hall, 134 Town Hall Drive, Cullman, Alabama.
City of Hanceville
Maps available for inspection at the Hanceville City Hall, 112 Main Street SE., Hanceville, Alabama.
City of Roanoke, Randolph County (FEMA Docket No. D-7596)
Graves Creek:
Approximately 1,000 feet upstream of the confluence with High Pine Creek | *733
Approximately 1.2 miles upstream of U.S. Highway 431 | *770
City of Roanoke
City of Roanoke
Maps available for inspection at the Roanoke City Hall, 809 East Main Street, Roanoke, Alabama.

(Catalog of Federal Domestic Assistance No. 83.100, “Flood Insurance”)
Dated: January 28, 2005.
David I. Maurstad,
Acting Director, Mitigation Division, Emergency Preparedness and Response Directorate.

[FR Doc. 05-2121 Filed 2-3-05; 8:45 am]

BILLING CODE 9110-12-P